DEPARTMENT OF TRANSPORTATION

Federal Aviation Administration

14 CFR Part 39

[Docket No. FAA-2007-28251; Directorate Identifier 2007-CE-049-AD; Amendment 39-15099; AD 2007-12-21]

RIN 2120-AA64

Airworthiness Directives; Hawker Beechcraft Corporation (Type Certificate No. A00010WI Previously Held by Raytheon Aircraft Company) Model 390 Airplanes

AGENCY: Federal Aviation Administration (FAA), DOT.

ACTION: Final rule; request for comments.

SUMMARY: The FAA is adopting a new airworthiness directive (AD) to supersede AD 2006-26-08, which applies to all Hawker Beechcraft Corporation (HBC) Model 390 airplanes. AD 2006-26-08 currently requires you to repetitively inspect the hydraulic pump outlet tube on both engines and immediately replace the tube if damage is found. AD 2006-26-08 also requires you to incorporate an airplane flight manual (AFM) change that limits operation of an engine with its associated firewall hydraulic shutoff valve closed. If an engine is operated with its firewall hydraulic shutoff valve closed, you must replace the hydraulic pump outlet tube. We issued AD 2006-26-08 as an interim action while we worked with the type certificate holder to develop a design change. HBC has now developed kits that incorporate design changes for the hydraulic pump outlet tubes and dampener supports so this AD retains the actions of AD 2006-26-08 until the new modification kits required by this AD are installed. We continued to receive additional reports of failures of the hydraulic pump outlet tube. We are issuing this AD to prevent failure of the hydraulic pump outlet tube and consequent leaking of hydraulic fluid. Such leakage could result in a fire. There is also a risk of loss of hydraulic system functions including normal gear extensions, speed brakes, roll spoilers, lift dump, and normal brakes.

DATES: This AD becomes effective on June 20, 2007.

On June 20, 2007, the Director of the Federal Register approved the incorporation by reference of Raytheon Aircraft Company Kit—Dampener Support Improvement, Drawing No. 390-5804 (Kit 390-5804-0001 Field Service Kit) and Raytheon Aircraft Company Kit—Hydraulic Pump Pressure Hose Installation No. 390-5805 (Kit 390-5805-0001 Field Service Kit), as referenced in Hawker Beechcraft Mandatory Service Bulletin 29-3800, Issued May 2007, as listed in this AD.

As of February 2, 2006 (71 FR 5581, February 2, 2006), the Director of the Federal Register approved the incorporation by reference of Raytheon Mandatory Service Bulletin No. SB 29-3771, dated January 2006; and Raytheon Safety Communique No. 267, dated January 2006, as listed in this AD.

We must receive any comments on this AD by August 20, 2007.

ADDRESSES: Use one of the following addresses to comment on this AD.

• DOT Docket Web site: Go to http://dms.dot.gov and follow the instructions for sending your comments electronically.

• Mail: U.S. Department of Transportation, Docket Operations, M-30, West Building Ground Floor, Room W12-140, 1200 New Jersey Avenue, SE., Washington, DC 20590.

• Fax: (202) 493-2251.

• Hand Delivery: U.S. Department of Transportation, Docket Operations, M-30, West Building Ground Floor, Room W12-140, 1200 New Jersey Avenue, SE., Washington, DC 20590 between 9 a.m. and 5 p.m., Monday through Friday, except Federal holidays.

• Federal eRulemaking Portal: Go to http://www.regulations.gov. Follow the instructions for submitting comments.

To get the service information identified in this AD, contact Hawker Beechcraft Corporation, 9709 East Central, Wichita, Kansas 67291; telephone: (800) 429-5372 or (316) 676-3140.

To view the comments to this AD, go to http://dms.dot.gov. The docket number is FAA-2007-28251; Directorate Identifier 2007-CE-049-AD.

FOR FURTHER INFORMATION CONTACT: James P. Galstad, Propulsion Aerospace Engineer, ACE 116W, Wichita Aircraft Certification Office, 1801 Airport Road, Room 100, Wichita, Kansas 67209; telephone: (316) 946-4135; fax: (316) 946-4107.

SUPPLEMENTARY INFORMATION:

Discussion

Reports of left engine hydraulic tube assembly failures prompted us to issue AD 2006-02-51, Amendment 39-14459 (71 FR 5581, February 2, 2006). AD 2006-02-51 required repetitive inspection of the hydraulic tube assembly, correction of the symptomatic clamp to hydraulic tube chafing on the left-hand nacelle, and reporting results to the FAA.

After we issued AD 2006-02-51, we continued to receive additional reports of failures of the hydraulic pump outlet tube, including failures on the right engine on certain HBC Model 390 airplanes. This prompted us to supersede AD 2006-02-51 with AD 2006-26-08, Amendment 39-14866 (71 FR 78051, December 28, 2006).

AD 2006-26-08 currently requires you to repetitively inspect the hydraulic pump outlet tube on both engines and immediately replace the tube if damage is found. AD 2006-26-08 also requires you to incorporate an airplane flight manual (AFM) change that limits operation of an engine with its associated firewall hydraulic shutoff valve closed. If an engine is operated with its firewall hydraulic shutoff valve closed, you must replace the hydraulic pump outlet tube.

We issued AD 2006-26-08 as an interim action while we worked with the type certificate holder to develop a design change. We continued to receive additional reports of failures of the hydraulic pump outlet tube.

HBC has now developed kits that incorporate design changes for the hydraulic pump outlet tubes and dampener supports.

Failure of the hydraulic pump outlet tubes, if not prevented, could cause flammable fluid leakage in the engine nacelle. Such leakage could result in a fire. There is also a risk of loss of hydraulic system functions including normal gear extensions, speed brakes, roll spoilers, lift dump, and normal brakes.

Relevant Service Information

We reviewed Hawker Beechcraft Mandatory Service Bulletin No. 29-3800, issued May 2007. The service information specifies the following actions:

• Incorporating Kit No. 390-5804-0001, which replaces the pulse dampener brackets with stiffer brackets and a spacer on both engines; and

• Incorporating Kit No. 390-5805-0001, which replaces the hydraulic pump outlet tubes with integral firesleeve hoses.

Raytheon Mandatory Service Bulletin No. SB 29-3771, dated January 2006; and Raytheon Safety Communique No. 267, dated January 2006, will be retained for this AD until both kits referenced above are incorporated.

FAA's Determination and Requirements of This AD

We are issuing this AD because we evaluated all the information and determined the unsafe condition described previously is likely to exist or develop on other products of the same type design. This AD retains the actions of AD 2006-26-08 and requires incorporating Kit No. 390-5804-0001 and Kit No. 390-5805-0001. Upon incorporating the kits required by this AD, the repetitive inspections and replacement retained from AD 2006-26-08 are no longer necessary. The AFM limitation is still required.

We continue to work with HBC in analyzing the design of the hydraulic system of the Model 390 airplanes. Based on this analysis, we may take future rulemaking action, which could eliminate the need for the current AFM limitation.

In preparing this rule, we contacted type clubs and aircraft operators to get technical information and information on operational and economic impacts. We did not receive any information through these contacts. If received, we would have included a discussion of any information that may have influenced this action in the rulemaking docket.

FAA's Determination of the Effective Date

Since an unsafe condition exists that requires the immediate adoption of this AD, we determined that notice and opportunity for public comment before issuing this AD are impracticable, and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2007-28251; Directorate Identifier 2007-CE-049-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2006-26-08, Amendment 39-14866 (71 FR 78051, December 28, 2006), and by adding a new AD to read as follows:

2007-12-21 Hawker Beechcraft Corporation (Type Certificate No. A00010WI previously held by Raytheon Aircraft Company): Amendment 39-15099; Docket No. FAA-2007-28251; Directorate Identifier 2007-CE-049-AD.

Effective Date

(a) This AD becomes effective on June 20, 2007.

Affected ADs

(b) This AD supersedes AD 2006-26-08; Amendment 39-14866.

Applicability

(c) This AD affects the following Model 390 airplanes that are certificated in any category:

(1) Serial numbers RB-1 through RB-49 that have Field Service Kit 390-9100 installed; and

(2) Serial numbers RB-50 through RB-209.

Unsafe Condition

(d) This AD is the result of continuing failures of the hydraulic pump outlet tubes and the need to incorporate improved design. We are issuing this AD to prevent failure of the hydraulic pump outlet tube and consequent leaking of hydraulic fluid. Such leakage could result in a fire. There is also a risk of loss of hydraulic system functions including normal gear extensions, speed brakes, roll spoilers, lift dump, and normal brakes.

Compliance

(e) To address this problem, you must do the following, unless already done:

Actions | Compliance | Procedures
(1) Visually inspect the hydraulic pump outlet tube for evidence of chafing, excessive vibration, wear, deterioration, or hydraulic fluid leakage, as follows: (i) For the left-hand (LH) engine: Remove the clamp, perform the inspection, and replace the clamp with a new one as specified in Raytheon Mandatory Service Bulletin No. SB 29-3771 after each inspection (ii) For the right-hand (RH) engine: Perform the inspection. Removal and replacement of the clamps are not necessary | Initially at whichever of the following occurs first and thereafter at intervals not to exceed 25 hours time-in-service (TIS) until the kits required in paragraph (e)(4) of this AD are incorporated: (A) Within the next 25 hours TIS after December 28, 2006 (the effective date of AD 2006-26-08); or (B) At the next inspection required by AD 2006-02-51. | Inspect following Raytheon Safety Communique No. 267, dated January 2006. Raytheon Safety Communique No. 267, dated January 2006, addresses the LH engine. Use the same inspection procedures for the RH engine hydraulic pump outlet tube (P/N 390-580037). Remove and replace the clamp (LH only) following Raytheon Mandatory Service Bulletin No. SB 29-3771, dated January, 2006.
(2) Replace the hydraulic pump outlet tube, part number (P/N) 390-580035 (or FAA-approved equivalent) for the LH engine or P/N 390-580037 (or FAA-approved equivalent) for the RH engine | Each and every time any of the following occurs until the kits required in paragraph (e)(4) of this AD are incorporated (i) Prior to further flight after any inspection required in paragraph (e)(1) of this AD where evidence of chafing, excessive vibration, wear, deterioration, or hydraulic fluid leakage is found; and (ii) Within 1 hour TIS following identification of an intended or unintended engine operation with the hydraulic shutoff valve closed. | Raytheon Aircraft Premier 1 Model 390 Maintenance Manual, P/N 390-590001-0015.
(3) Incorporate Raytheon Aircraft Company Part Number 390-590001-0003C3TC6, dated September 16, 2006 into the airplane flight manual (AFM) | Within 5 days after December 28, 2006 (the effective date of AD 2006-26-08) | The owner/operator holding at least a private pilot certificate as authorized by section 43.7 of the Federal Aviation Regulations (14 CFR 43.7) may do the AFM change requirement of this AD. Make an entry into the aircraft records showing compliance with this portion of the AD in accordance with section 43.9 of the Federal Aviation Regulations (14 CFR 43.9).
(4) Incorporate Kits No. 390-5804-0001 and 390-5805-0001 | At whichever of the following that occurs first: (i) Within the next 25 hours TIS after June 20, 2007 (the effective date of this AD); or (ii) Within the next 45 days after June 20, 2007 (the effective date of this AD. | Follow the instructions in the documents presented below as referenced in Hawker Beechcraft Mandatory Service Bulletin 29-3800, Issued May, 2007: (i) Raytheon Aircraft Company Kit—Dampener Support Improvement, Drawing No. 390-5804 (Kit 390-5804-0001 Field Service Kit). (ii) Raytheon Aircraft Company Kit—Hydraulic Pump Pressure Hose Installation No. 390-5805 (Kit 390-5805-0001 Field Service Kit).

(f) After the actions required in paragraph (e)(4) of this AD are done:

(1) the repetitive inspections and replacement of paragraphs (e)(1) and (e)(2) of this AD are no longer required.

(2) the requirement in paragraph (e)(3) of this AD to incorporate Raytheon Aircraft Company Part Number 390-590001-0003C3TC6, dated September 16, 2006, into the AFM remains valid.

Alternative Methods of Compliance (AMOCs)

(g) The Manager, Wichita Aircraft Certification Office, FAA, ATTN: James P. Galstad, Propulsion Aerospace Engineer, ACE 116W, Wichita Aircraft Certification Office, 1801 Airport Road, Room 100, Wichita, Kansas 67209; telephone: (316) 946-4135; fax: (316) 946-4107, has the authority to approve AMOCs for this AD, if requested using the procedures found in 14 CFR 39.19. Before using any approved AMOC on any airplane to which the AMOC applies, notify your appropriate principal inspector (PI) in the FAA Flight Standards District Office (FSDO), or lacking a PI, your local FSDO.

(h) AMOCs approved for AD 2006-26-08 are approved for this AD.

Material Incorporated by Reference

(i) You must use Raytheon Mandatory Service Bulletin No. SB 29-3771, dated January, 2006; Raytheon Safety Communique No. 267, dated January 2006; and Raytheon Aircraft Company Kit—Dampener Support Improvement, Drawing No. 390-5804 (Kit 390-5804-0001 Field Service Kit) and Raytheon Aircraft Company Kit—Hydraulic Pump Pressure Hose Installation No. 390-5805 (Kit 390-5805-0001 Field Service Kit), as referenced in Hawker Beechcraft Mandatory Service Bulletin 29-3800, Issued May, 2007, to do the actions required by this AD, unless the AD specifies otherwise.

(1) The Director of the Federal Register approved the incorporation by reference of Raytheon Aircraft Company Kit—Dampener Support Improvement, Drawing No. 390-5804 (Kit 390-5804-0001 Field Service Kit) and Raytheon Aircraft Company Kit—Hydraulic Pump Pressure Hose Installation No. 390-5805 (Kit 390-5805-0001 Field Service Kit), as referenced in Hawker Beechcraft Mandatory Service Bulletin 29-3800, Issued May, 2007, under 5 U.S.C. 552(a) and 1 CFR part 51.

(2) On February 2, 2006 (71 FR 5581, February 2, 2006), the Director of the Federal Register approved the incorporation by reference of Raytheon Mandatory Service Bulletin No. SB 29-3771, dated January, 2006; and Raytheon Safety Communique No. 267, dated January 2006.

(3) For service information identified in this AD, contact Hawker Beechcraft Corporation, 9709 East Central, Wichita, Kansas 67291; telephone: (800) 429-5372 or (316) 676-3140.

(4) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on June 4, 2007.
David R. Showers,
Acting Manager, Small Airplane Directorate, Aircraft Certification Service.

[FR Doc. E7-11241 Filed 6-18-07; 8:45 am]

BILLING CODE 4910-13-P